FEDERAL COMMUNICATIONS COMMISSION

47 CFR Part 73

[DA 05-3059, MB Docket No. 03-120, RM-10591, RM-10839]

Radio Broadcasting Services; Chattanooga, Halls Crossroads, Harrogate, and Lake City, TN

AGENCY: Federal Communications Commission.

ACTION: Final rule.

SUMMARY: This document grants a counterproposal to reallot and change the community of license for Station WXJB(FM) from Channel 243A at Harrogate, TN, to Channel 244A at Halls Crossroads, TN. The document also denies a mutually exclusive proposal to allot Channel 244A to Lake City, TN. Although each proposal would result in a first local service, a first local service at Halls Crossroads is preferred because it has a larger population than Lake City. See 68 FR 33669, June 5, 2003. See also SUPPLEMENTARY INFORMATION.

DATES: Effective January 9, 2006.

FOR FURTHER INFORMATION CONTACT: Andrew J. Rhodes, Media Bureau, (202) 418-2180.

SUPPLEMENTARY INFORMATION: This is a synopsis of the Commission's Report and Order, MB Docket 03-120, adopted November 23, 2005, and released November 25, 2005. The full text of this decision is available for inspection and copying during normal business hours in the FCC's Reference Information Center at Portals II, CY-A257, 445 12th Street, SW., Washington, DC. The complete text of this decision may also be purchased from the Commission's duplicating contractor, Best Copy and Printing, Inc., 445 12th Street, SW., Room CY-B402, Washington, DC 20554, telephone 1-800-378-3160 or http://www.BCPIWEB.com. The Commission will send a copy of the Report and Order in this proceeding in a report to be sent to Congress and the Government Accountability Office pursuant to the Congressional Review Act, see 5 U.S.C. 801(a)(1)(A).

The reference coordinates for Channel 244A at Halls Crossroads, TN, are 36-09-43 NL and 83-58-33 WL. The document also downgrades Station WDOD-FM, Chattanooga, TN, from Channel 243C to Channel 243C0 at reference coordinates 35-09-39 NL and 85-19-11 WL.

List of Subjects in 47 CFR Part 73

Radio, Radio broadcasting.

Part 73 of Title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Tennessee, is amended by removing Channel 243C and adding Channel 243C0 at Chattanooga, adding Channel 244A, Halls Crossroads, and removing Channel 243A at Harrogate.

Federal Communications Commission.
John A. Karousos,
Assistant Chief, Audio Division, Media Bureau.

[FR Doc. 05-24036 Filed 12-13-05; 8:45 am]

BILLING CODE 6712-01-P